DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's intention to request an extension for a currently approved information collection in support of the program for Rural Housing Loans.

DATES: Comments on this notice must be received by May 17, 2010 to be assured of consideration.

FOR FURTHER INFORMATION CONTACT: Debra A. Terrell, Senior Loan Specialist, Single Family Housing Guaranteed Loan Division, Rural Housing Service, Stop 0784, 1400 Independence Ave., SW., Washington, DC 20250-0784; Telephone: (202) 720-1452; E-mail: debra.terrell@wdc.usda.gov.

SUPPLEMENTARY INFORMATION:

Title: Rural Housing Loans.

OMB Number: 0575-0078.

Expiration Date of Approval: March 31, 2010.

Type of Request: Extension of a currently approved information collection.

Abstract: The Rural Housing Service (RHS) is authorized under Section 517(d) of Title V of the Housing Act of 1949, as amended, to issue loan guarantees for the acquisition of new or existing dwellings and related facilities to provide decent, safe, and sanitary living conditions and other structures in rural areas by eligible recipients.

The Act also authorizes the Secretary to pay the holder of a guaranteed loan the difference between the rate of interest paid by the borrower and the market rate of interest.

The purpose of the program is to assist low and moderate income individuals and families acquire or construct a single family residence in a rural area with loans made by private lenders. Eligibility for this program includes low and moderate income families or persons whose income does not exceed 115 percent of the median income for the area, as determined by the Secretary.

The Guaranteed Rural Housing (GRH) program was authorized under the Cranston-Gonzalez National Affordable Housing Act, and the Agency issued a final rule implementing the GRH program on April 17, 1991, before departmental reorganization. The program began as a pilot program in 20 States on May 17, 1991. In 1992, the GRH program was offered on a nationwide basis. During the implementation process, the Agency looked for ways to improve the program and make it more user-friendly.

The Agency recognized the need to make its program even more compatible with the existing structure of the mortgage lending community. On May 22, 1995, the Agency published a final rule incorporating the needed changes to encourage greater participation by lenders and the secondary market for mortgage loans.

The information requested by the Agency includes borrower financial information such as household income, assets and liabilities, and monthly expenses. All information collected is vital for the Agency to determine if borrowers qualify for and assure they receive all assistance for which they are eligible. Information requested on lenders is required to ensure lenders are eligible to participate in the GRH program. Lender requirements are in compliance with OMB Circular A-129.

Estimate of Burden: Public reporting burden for this collection of information is estimated to average 1.44 hours per response.

Respondents: Individuals or households and business or other for-profits.

Estimated Number of Respondents: 33,393.

Estimated Number of Responses per Respondent: 8.7.

Estimated Number of Responses: 293,053.

Estimated Total Annual Burden on Respondents: 204,081 hours.

Copies of this information collection can be obtained from Linda Watts-Thomas, Regulations and Paperwork Management Branch, at (202) 692-0226.

Comments

Comments are invited on: (a) Whether the proposed collection of information is necessary for the proper performance of the functions of RHS, including whether the information will have practical utility; (b) the accuracy of RHS's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to Linda Watts-Thomas, Regulations and Paperwork Management Branch, Support Services Division, U.S. Department of Agriculture, Rural Development, STOP 0742, 1400 Independence Ave., SW., Washington, DC 20250-0742. All responses to this notice will be summarized and included in the request for OMB approval. All comments will also become a matter of public record.

Dated: March 12, 2010.
Tammye Treviño,
Administrator, Rural Housing Service.

[FR Doc. 2010-5883 Filed 3-17-10; 8:45 am]

BILLING CODE 3410-XV-P